DEPARTMENT OF THE INTERIOR

Geological Survey

[GX21xxxx; OMB Control Number 1028-NEW]

Agency Information Collection Activities; Wildlife Morbidity/Mortality or Disease Surveillance Event Reporting

AGENCY: U.S. Geological Survey, Interior.

ACTION: Notice of information collection; request for comment.

SUMMARY: In accordance with the Paperwork Reduction Act of 1995 (PRA), the U.S. Geological Survey (USGS) is proposing an existing collection without an OMB number.

DATES: Interested persons are invited to submit comments on or before June 21, 2022.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Katherine Richgels by email at krichgels@usgs.gov or by telephone at 608-381-2492. Individuals in the United States who are deaf, deafblind, hard of hearing, or have a speech disability may dial 711 (TTY, TDD, or TeleBraille) to access telecommunications relay services. Individuals outside the United States should use the relay services offered within their country to make international calls to the point-of-contact in the United States. You may also view the ICR at: http://www.reginfo.gov/public/do/PRAMain.

SUPPLEMENTARY INFORMATION: In accordance with the PRA, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS National Wildlife Health Center (NWHC) collects information on the presence of highly consequential wildlife diseases and the occurrence of wildlife morbidity/mortality events nationwide to aid in outbreak investigations conducted by land-management agencies and as part of their mission-critical activities associated with response to animal health emergencies (Emergency Support Function 11). The collected information is used to provide situational awareness of potential zoonotic disease threats to human- and agricultural-health agencies and to assist land-management agencies with management decisions. NWHC requests that state, federal, and tribal natural-resource managers report wildlife morbidity and mortality events and collaborate on national-scale surveillance. Reported information includes the location, land ownership, and date(s) where the event occurred or sample was taken; capture methods and sample type, species sampled, and individual characteristics such as sex, age, and size; any clinical signs or other event history observed; habitat characteristics known to affect the suspected disease process, such as habitat type, habitat cover, temperature, precipitation, or others; laboratory-confirmed or suspected diagnoses; and contact information for the person reporting the event or submitting the sample. NWHC reports back the results of diagnostic testing and cause of death (if applicable) to the submitter and provides generalized information to registered users through our WHISPers platform, where users can search and download current and historical trends in wildlife diseases (in accordance with the open data policy and FAIR standards).

Title of Collection: Wildlife morbidity/mortality or disease surveillance event reporting.

OMB Control Number: 1028-NEW.

Form Number: None.

Type of Review: An existing collection without an OMB number.

Respondents/Affected Public: Employees of state, federal, or tribal agencies with wildlife-management authority.

Total Estimated Number of Annual Respondents: 400.

Total Estimated Number of Annual Responses: 400.

Estimated Completion Time per Response: 15 min.

Total Estimated Number of Annual Burden Hours: 100.

Respondent's Obligation: Voluntary.

Frequency of Collection: Per wildlife health event, frequency depends on the number of events experienced by an agency/management unit.

Total Estimated Annual Nonhour Burden Cost: None.

An agency may not conduct or sponsor, nor is a person required to respond to, a collection of information unless it displays a currently valid OMB control number.

The authority for this action is the Paperwork Reduction Act of 1995 (44 U.S.C. 3501 et seq).

Jonathan Sleeman,
Director, National Wildlife Health Center.

[FR Doc. 2022-08274 Filed 4-18-22; 8:45 am]

BILLING CODE 4338-11-P